INTERNATIONAL TRADE COMMISSION

[Investigation Nos. 701-TA-566 and 731-TA-1342 (Final) (Remand)]

Softwood Lumber From Canada

AGENCY: United States International Trade Commission.

ACTION: Notice of remand proceedings.

SUMMARY: The U.S. International Trade Commission (“Commission”) hereby gives notice of the remand of its final determinations in the antidumping duty and countervailing duty investigations of softwood lumber from Canada. For further information concerning the conduct of these remand proceedings and rules of general application, consult the Commission's Rules of Practice and Procedure, part 201, subparts A through E (19 CFR part 201), and part 207, subpart A (19 CFR part 207).

DATES: This remand is effective as of September 23, 2019.

FOR FURTHER INFORMATION CONTACT: Nannette Christ (202-205-3263), Office of Investigations, or Jane Dempsey (202-205-3142), Office of General Counsel, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record of Investigation Nos. 701-TA-566 and 731-TA-1342 (Final) may be viewed on the Commission's electronic docket (EDIS) at http://edis.usitc.gov.

SUPPLEMENTARY INFORMATION:

Background.—In December 2017, the Commission issued its unanimous determination in Softwood Lumber from Canada, Inv. Nos. 701-TA-566 and 731-TA-1342, USITC Pub. 4749 (December 2017). Respondents Government of Canada, Government of Alberta, Government of British Columbia, Government of Ontario, Government of Quebec, Alberta Softwood Lumber Trade Council, British Columbia Lumber Trade Council, Canfor Corporation, J.D. Irving Limited, West Fraser Mills Ltd., Western Forest Products Inc., Resolute FP Canada Inc., the Conseil de l'industrie forestiere du Quebec, and the Ontario Forest Industries Association contested the Commission's determinations concerning subject imports from Canada before a bi-national Panel established pursuant to Article 1904 of the North American Free Trade Agreement. The Panel affirmed in part and remanded in part the Commission's determinations. In the Matter of Softwood Lumber from Canada: Interim Decision and Order of the Panel, Secretariat File No. USA-CDA-2018-1903-03 (September 4, 2019). Specifically, the Panel remanded for the Commission to reconsider certain aspects of its analysis and findings concerning the conditions of competition and the volume of subject imports and their price effects.

Participation in the proceeding.—Only those persons who were interested parties that participated in the investigations (i.e., persons listed on the Commission Secretary's service list) and also parties to the appeal may participate in the remand proceedings. Such persons need not make any additional notice of appearances or applications with the Commission to participate in the remand proceedings, unless they are adding new individuals to the list of persons entitled to receive business proprietary information (“BPI”) under administrative protective order. BPI referred to during the remand proceedings will be governed, as appropriate, by the administrative protective order issued in the investigations. The Secretary will maintain a service list containing the names and addresses of all persons or their representatives who are parties to the remand proceedings, and the Secretary will maintain a separate list of those authorized to receive BPI under the administrative protective order during the remand proceedings.

Written Submissions.—The Commission is not reopening the record and will not accept the submission of new factual information for the record. The Commission will permit the parties to file comments concerning how the Commission could best comply with the Panel's remand instructions.

The comments must be based solely on the information in the Commission's record. The Commission will reject submissions containing additional factual information or arguments pertaining to issues other than those on which the Panel has remanded this matter. The deadline for filing comments is October 15, 2019. Comments shall be limited to no more than thirty (30) double-spaced and single-sided pages of textual material, inclusive of attachments and exhibits.

Parties are advised to consult with the Commission's Rules of Practice and Procedure, part 201, subparts A through E (19 CFR part 201), and part 207, subpart A (19 CFR part 207) for provisions of general applicability concerning written submissions to the Commission. All written submissions must conform to the provisions of section 201.8 of the Commission's rules; any submissions that contain BPI must also conform with the requirements of sections 201.6, 207.3, and 207.7 of the Commission's rules. The Commission's Handbook on E-Filing, available on the Commission's website at http://edis.usitc.gov, elaborates upon the Commission's rules with respect to electronic filing.

Additional written submissions to the Commission, including requests pursuant to section 201.12 of the Commission's rules, will not be accepted unless good cause is shown for accepting such submissions or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

By order of the Commission.
Issued: September 23, 2019.
Lisa Barton,
Secretary to the Commission.

[FR Doc. 2019-20976 Filed 9-26-19; 8:45 am]

BILLING CODE 7020-02-P